DEPARTMENT OF HEALTH AND HUMAN SERVICES

Administration for Children and Families

[CFDA Number 93.676]

Office of Refugee Resettlement; Announcing the Award of a Single-Source Program Expansion Supplemental Grant for Unaccompanied Alien Children's Shelter Care to Baptist Children and Family Services (BCFS) in San Antonio, TX

AGENCY: Office of Refugee Resettlement, ACF, HHS.

ACTION: The Office of Refugee Resettlement announces the award of a single-source program expansion supplement grant from its Unaccompanied Alien Children's Program.

SUMMARY: The Administration for Children and Families (ACF), Office of Refugee Resettlement (ORR) announces the award of a single-source program expansion supplement grant to Baptist Children and Family Services (BCFS) in San Antonio, TX, for a total of $22,725,223. The additional funding provided by the awards will support services to refugees through September 30, 2012.

DATES: Project Period: October 1, 2011—September 30, 2012.

FOR FURTHER INFORMATION CONTACT: Kenneth Tota, Deputy Director, Office of Refugee Resettlement, Administration for Children and Families, 370 L'Enfant Promenade SW., Washington, DC 20447, Telephone (202) 401-4858.

SUPPLEMENTARY INFORMATION: The supplement grant will support the expansion of bed capacity to meet the number of unaccompanied alien children referrals from the Department of Homeland Security (DHS). The funding program is mandated by Section 462 of the Homeland Security Act to ensure appropriate placement of all referrals from the DHS. The program is tied to DHS apprehension strategies and sporadic number of border crossers.

The program has specific requirements for the provision of services to unaccompanied alien children. Existing grantees are the only entities with the infrastructure, licensing, experience and appropriate level of trained staff to meet the required service requirements and the urgent need for expansion of services in response to unexpected arrivals of unaccompanied children. The program expansion supplement will support such services and alleviate the buildup of children waiting in border patrol stations for placement in shelter care.

Statutory Authority: Awards announced in this notice are authorized by Section 462 of the Homeland Security Act, Public Law 6 U.S.C. 279(b)(A)-(J) and sections 235(a)(5)(C); 235(d) of the Trafficking Victims Protection Reauthorization Act of 2008, (8 U.S.C. 1232).

Eskinder Negash,
Director, Office of Refugee Resettlement.

[FR Doc. 2012-15373 Filed 6-25-12; 8:45 am]

BILLING CODE 4120-27-P